DEPARTMENT OF COMMERCE

National Oceanic and Atmospheric Administration

RIN 0648-XW07

Groundfish Fisheries of the Bering Sea and Aleutian Islands Area and the Gulf of Alaska; King and Tanner Crab Fisheries in the Bering Sea/Aleutian Islands; Scallop and Salmon Fisheries Off the Coast of Alaska

AGENCY: National Marine Fisheries Service (NMFS), National Oceanic and Atmospheric Administration (NOAA), Commerce.

ACTION: Notification of a call for proposals for Habitat Areas of Particular Concern (HAPCs) and associated fishery management measures.

SUMMARY: The North Pacific Fishery Management Council (Council) and NMFS are soliciting proposals for candidate sites that could be identified as HAPCs and managed within Essential Fish Habitat (EFH) pursuant to the Magnuson-Stevens Fishery Conservation and Management Act (Magnuson-Stevens Act). The Council has identified skate nurseries as a priority for consideration during this call for proposals, and proposals must meet the identified priority.

DATES: Proposals must be submitted by August 16, 2010.

ADDRESSES: Proposals should be submitted to the North Pacific Fishery Management Council, 605 W. 4th Ave., Suite 306, Anchorage, AK 99501-2252.

FOR FURTHER INFORMATION CONTACT: Diana Evans or Sarah Melton, (907) 271-2809.

SUPPLEMENTARY INFORMATION: HAPC designations provide an opportunity for Councils to highlight especially valuable and/or vulnerable areas within EFH that warrant priority consideration for conservation and management. The regulatory guidelines for implementing the EFH provisions of the Magnuson-Stevens Act encourage Fishery Management Councils to identify specific types or areas of habitat within EFH as HAPCs based on the following considerations: (1) the importance of the ecological function provided by the habitat, (2) the extent to which the habitat is sensitive to human-induced environmental degradation, (3) whether, and to what extent, development activities are, or will be, stressing the habitat type, and (4) the rarity of the habitat type (50 CFR 600.815(a)(8)). In the North Pacific, specific sites will be considered for HAPC if they (a) meet the rarity consideration above, and (b) meet at least one other of the HAPC considerations.

The Council and NMFS are soliciting proposals for specific candidate sites to be considered as HAPCs. Proposals must meet the Council's identified priority for this proposal cycle, which is skate nurseries. Proposal applications are available on the Council website, www.alaskafisheries.noaa.gov/npfmc. The review process for proposals is identified in the proposal package, available on the website, and will involve screening to determine how responsive proposals are to the Council's priority and HAPC consideration. Following review, the Council will decide whether to proceed with a fishery management plan amendment to identify HAPCs and any associated management measures. NMFS will promulgate any resulting regulations, supported by appropriate analyses.

Proposals should include the following information:

1. Proposer information (name, address, affiliation)

2. Title of proposal

3. Summary of proposal (single, brief paragraph describing the proposed action)

4. Identification of what habitat and FMP species the proposed area is intended to protect

5. Geographic delineation of the proposed HAPC (including latitude and longitude reference points and delineation on an appropriately-scaled NOAA chart)

6. Responsiveness to HAPC considerations and Council priorities (identify how the proposed HAPC addresses the four considerations set out in the EFH guidelines, and the Council's priority habitat type for the 2010 proposal process)

7. Purpose and need for proposal

8. Specific objectives for proposal, and methods to measure progress toward those objectives

9. Proposed management measures, if appropriate, to meet objectives

10. Expected benefits of the proposed HAPC to FMP species

11. Identification of fisheries, sectors, stakeholders, and communities who would be affected by the establishment of the proposed HAPC

12. Supporting information (please provide the best available information and/or sources of information to support the objectives of the proposed HAPC and discussion of the expected effects of implementing the proposal, including socioeconomic costs if possible.)

Dated: April 21, 2010.
Tracey Thompson,
Acting Director, Office of Sustainable Fisheries, National Marine Fisheries Service.

[FR Doc. 2010-9569 Filed 4-23-10; 8:45 am]

BILLING CODE S